DEPARTMENT OF COMMERCE

National Oceanic and Atmosphere Administration

Alaska Coastal Management Program: Incorporation of Revised Coastal District Management Plans for Cities of Skagway, Hoonah, and Pelican; and Deletion of Coastal District Management Plans for Cities of Angoon, Hydaburg, Kake, Klawock, and St. Paul with Associated Areas Meriting Special Attention; Availability of Environmental Assessment and Finding of No Significant Impact

AGENCY: National Oceanic and Atmospheric Administration, U.S. Department of Commerce.

ACTION: Notice of availability of Environmental Assessment and Finding of No Significant Impact.

SUMMARY: Notice is hereby given of the availability of the Environmental Assessment (EA) and Finding of No Significant Impact (FONSI) for the National Oceanic and Atmospheric Administration's (NOAA) approval of the State of Alaska's Coastal Management Program (ACMP) request to incorporate revisions to the cities of Skagway, Hoonah and Pelican's coastal district management and plan and to delete the cites of Angoon, Hydaburg, Kake, Klawock, and St. Paul coastal district management plans and associated Areas Meriting Special Attention (AMSA) as a routine program change to the ACMP. The EA was prepared pursuant to the National Environmental Policy Act (NEPA) U.S.A. 4321 et seq. to assess the environmental impacts associated with the approval and implementation of these revisions to the ACMP, which were submitted to NOAA by the State of Alaska. Pursuant to Section 306(g) of the Coastal Zone Management Act of 1972 as amended (CZMA) and NOAA's Office of Ocean and Coastal Resource Management (OCRM) regulations (15 CFR part 923, subpart H), OCRM is required to approve any amendment, modification, or other change to a state's federally-approved coastal management program. This includes changes to local coastal management programs. See 15 CFR part 923, subpart E.

For the purposes of this EA, the proposed action is approval of the proposed revisions to three district coastal management plans and deletion of the five district coastal management plans and associated AMSA. These changes to the ACMP will bring the three revised district coastal management plans into compliance with the recently-approved amendments to the ACMP, and eliminate five previously-approved district coastal management plans and their associated AMSA. The five districts will no longer participate at the local level in the State's federally-approved coastal zone management program. The coastal area in which the five deleted coastal management programs reside will continue to be covered by the ACMP's federally-approved statewide (rather than local) policies. However, due to other recent changes to the ACMP approved by OCRM, some district area uses and resources may not receive the same level of resource coverage, including subsistence resources.

NOAA finds that the ACMP has met the requirements for submitting a routine program change to OCRM and proposes to approve the program change. Based upon the EA, NOAA proposes to conclude that a Finding of No Significant Impact is appropriate, and therefore, an Environmental Impact Statement is unnecessary. The Council on Environmental Quality's regulations to implement NEPA require agencies to provide public notice of the availability of environmental documents. 40 CFR 1506.6. This notice is part of NOAA's action to comply with this requirement.

A copy of the final EA and the Finding of No Significant Impact may be found on OCRM's Web site at http://coastalmanagement.noaa.gov/assessments/welcome.html or may be obtained upon request from: Helen Bass, Coastal Programs Division (N/ORM3), Office of Ocean and Coastal Resource Management, NOS, NOAA, 1305 East-West Highway, Silver Spring, Maryland 20910, telephone: (301) 713-3155, x175, e-mail: Helen.Bass@noaa.gov.

FOR FURTHER INFORMATION CONTACT: Helen Bass, Environmental Protection Specialist, at the above noted address, telephone number, or e-mail address.

Dated: January 4, 2007.
William Corso,
Deputy Assistant Administrator, Ocean Services and Coastal Zone Management, National Oceanic and Atmospheric Administration.
(Federal Domestic Assistance Catalog 11.419 Coastal Zone Management Program Assistance)

[FR Doc. 07-42 Filed 1-9-07; 8:45 am]

BILLING CODE 3510-08-M